DEPARTMENT OF HOMELAND SECURITY

Coast Guard

33 CFR Part 165

[Docket No. USCG-2017-0985]

Safety Zone; Annual Fireworks Display on the Ohio River, Monongahela River, Allegheny River, Pittsburgh, PA

AGENCY: Coast Guard, DHS.

ACTION: Notice of enforcement of regulation.

SUMMARY: The Coast Guard will enforce the subject safety zone for the annual fireworks display that takes place every November on the Ohio River, Monongahela River and Allegheny River extending the entire width of the rivers. The zone is needed to protect vessels transiting the area and event spectators from the hazards associated with the fireworks display. During the enforcement period, entry into, transiting, or anchoring in the safety zone is prohibited to all vessels not registered with the sponsor as participants or official patrol vessels, unless specifically authorized by the Captain of the Port Marine Safety Unit Pittsburgh (COTP) or a designated representative.

DATES: The regulations in the Table 1 in 33 CFR 165.801, No. 64, will be enforced from 8 p.m. until 9:30 p.m., on November 17, 2017.

FOR FURTHER INFORMATION CONTACT: If you have questions about this notice of enforcement, call or email MST1 Jennifer Haggins, Marine Safety Unit Pittsburgh, U.S. Coast Guard; telephone 412-221-0807, email Jennifer.L.Haggins@uscg.mil.

SUPPLEMENTARY INFORMATION: The Coast Guard will enforce the safety zone listed in the regulations in Table 1 in 33 CFR 165.801, No. 64. The safety zone is for the annual fireworks display on the Ohio River, from mile 0.0 to 0.3, Monongahela River mile 0.0 to 0.22 and Allegheny River mile 0.0 to 0.25, extending the entire width of the rivers, from 8 p.m. to 9:30 p.m. on November 17, 2017. This action is being taken to protect vessels transiting the area and event spectators from the hazards associated with the fireworks display. Entry into the safety zone is prohibited unless authorized by the Captain of the Port Marine Safety Unit Pittsburgh (COTP) or a designated representative. Persons or vessels desiring to enter into or passage through the safety zone must request permission from the COTP or a designated representative. If permission is granted, all persons and vessels shall comply with the instructions of the COTP or designated representative.

This notice of enforcement is issued under authority of 33 CFR 165.801 and 5 U.S.C. 552(a). In addition to this notice of enforcement in the Federal Register, the Coast Guard will provide the maritime community with advance notification of these enforcement periods via Local Notice to Mariners and updates via Marine Information Broadcasts.

Dated: November 9, 2017.
F. Smith,
Lieutenant Commander, U.S. Coast Guard, Acting Captain of the Port Marine Safety Unit Pittsburgh.

[FR Doc. 2017-24820 Filed 11-15-17; 8:45 am]

BILLING CODE 9110-04-P